DEPARTMENT OF LABOR

Employment and Training Administration

[TA-W-82,180]

Comcast Cable, West Division Customer Care, Morgan Hill, CA; Notice of Affirmative Determination Regarding Application for Reconsideration

By application dated January 29, 2013, a worker requested administrative reconsideration of the negative determination regarding workers' eligibility to apply for Trade Adjustment Assistance (TAA) applicable to workers and former workers of the subject firm. The determination was issued on December 27, 2012 and the Notice of Determination was published in the Federal Register on January 10, 2013 (78 FR 2290). The workers' firm supply call center functions related to sales services for Comcast products, including video, telephone, and high-speed Internet.

The negative determination was based on the findings that the subject firm did not shift or import the supply of services like or directly competitive with those provided by the subject firm.

The request for reconsideration included new information regarding a possible connection to an affiliated facility that employed workers who are eligible to apply for TAA.

The Department carefully reviewed the request for reconsideration and the existing record, and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 31st day of January, 2013.
Del Min Amy Chen,
Certifying Officer, Office of Trade Adjustment Assistance.

[FR Doc. 2013-03542 Filed 2-14-13; 8:45 am]

BILLING CODE 4510-FN-P